DEPARTMENT OF ENERGY

Notice of Intent To Prepare a Supplemental Environmental Impact Statement for Surplus Plutonium Disposition at the Savannah River Site

AGENCY: Department of Energy.

ACTION: Notice of Intent.

SUMMARY: The U.S. Department of Energy (DOE) intends to prepare a Supplemental Environmental Impact Statement (SEIS) to evaluate the potential environmental impacts of plutonium disposition capabilities that would be constructed and operated at the Savannah River Site (SRS) near Aiken, South Carolina. DOE completed the Surplus Plutonium Disposition (SPD) EIS (DOE/EIS-0283) in November 1999, and on January 11, 2000, published a Record of Decision (ROD) in the Federal Register (65 FR 1608). DOE decided to dispose of approximately 17 metric tons of plutonium surplus to the nation's defense needs using an immobilization process and up to 33 metric tons by using the surplus plutonium as feedstock in the fabrication of mixed oxide (MOX) fuel to be irradiated in commercial reactors. DOE selected the SRS as the site for all surplus plutonium disposition facilities. Subsequently, DOE cancelled the immobilization portion of its disposition strategy due to budgetary constraints (ROD, 67 FR 19432, April 19, 2002). The selection of the SRS as the location for disposition facilities for up to 50 metric tons of surplus plutonium remains unchanged. Site preparation for the MOX Fuel Fabrication Facility at the SRS began in November 2005.

The 2002 decision left DOE with about 13 metric tons of surplus plutonium that does not have a defined path to disposition (about 4 metric tons of the 17 metric tons originally considered for immobilization has been designated for programmatic use). DOE has been investigating alternative disposition technologies and will now prepare an SEIS for Surplus Plutonium Disposition at the SRS (DOE/EIS-0283-S2) to evaluate the potential environmental impacts of those alternatives. DOE's preferred alternative is to construct and operate a vitrification facility within an existing building at the SRS. This facility would immobilize plutonium within a lanthanide borosilicate glass inside stainless steel cans. The cans then would be placed within larger canisters to be filled with vitrified high-level radioactive waste in the Defense Waste Processing Facility (DWPF) at the SRS. The canisters would be suitable for disposal in a geologic repository. DOE also would prepare some of the surplus plutonium for disposal by processing it in the H-Canyon at the SRS, then sending it to the high-level waste tanks and DWPF. DOE seeks to take this action to reduce the threat of nuclear weapons proliferation worldwide by disposing of surplus plutonium in the United States in a safe and environmentally sound manner. The preferred vitrification technology, along with processing in H-Canyon, would fulfill this need for disposition of surplus plutonium materials that are not planned for disposition via fabrication into MOX fuel.

DATES: DOE invites Federal agencies, state and local governments, Native American tribes, industry, other organizations, and members of the public to submit comments to assist in identifying environmental issues and in determining the appropriate scope of the SEIS. The public scoping period starts with the publication of this notice in the Federal Register and will continue until May 29, 2007. Comments received after this date will be considered to the extent practicable. Also, DOE requests Federal, State, and local agencies that desire to be designated as cooperating agencies on the SEIS to contact the NEPA Document Manager at the addresses listed under ADDRESSES by the end of the scoping period. DOE will hold two public scoping meetings:

• April 17, 2007 (5:30 p.m.-10 p.m.) at Newberry Hall, 117 Newberry Street, SW., Aiken, SC.

• April 19, 2007 (5:30 p.m.-10 p.m.) at the Columbia Marriott Hotel, 1200 Hampton Street, Columbia, SC.

DOE officials will be available to answer questions about plutonium disposition and the proposed alternatives at both locations beginning at 5:30 p.m. DOE will provide a brief presentation on the SEIS, then, beginning about 6:30 p.m., accept public comments on the scope of the SEIS.

ADDRESSES: Comments or questions regarding the scoping process, requests to be placed on the SEIS distribution list, and comments on the scope of the SEIS should be addressed to Mr. Andrew R. Grainger, NEPA Document Manager, Savannah River Operations Office, P.O. Box B, Aiken, SC 29802; toll-free telephone 1-800-881-7292; fax 803-952-7065; or e-mail drew.grainger@srs.gov.

For general information concerning the DOE NEPA process, contact: Carol Borgstrom, Director, Office of NEPA Policy and Compliance (GC-20), U.S. Department of Energy, 1000 Independence Avenue, SW., Washington, DC 20585-0103; telephone 202-586-4600, or leave a message at 1-800-472-2756; fax 202-586-7031; or send an e-mail to askNEPA@eh.doe.gov. This NOI will be available on the Internet at http://www.eh.doe.gov/nepa.

SUPPLEMENTARY INFORMATION:

Background

After the end of the Cold War, the United States declared 50 metric tons of plutonium surplus to the defense needs of the nation. At that time, plutonium materials were in various forms and various stages of the material manufacturing and weapons fabrication processes and were located at several weapons complex sites that DOE had operated in the preceding decades. DOE began the process of placing these materials in safe, stable configurations for storage until disposition strategies could be developed and implemented.

In the Storage and Disposition of Weapons-Usable Fissile Materials Programmatic EIS (Storage and Disposition PEIS, DOE/EIS-0229, December 1996), DOE evaluated six candidate sites for siting plutonium disposition facilities and three categories of disposition technologies that would convert surplus plutonium into a form that would meet the Spent Fuel Standard.¹ The three categories were: Deep Borehole Category (two options); Immobilization Category (three options: vitrification, ceramic immobilization, electrometallurgical treatment); and Reactor Category (four options). DOE also analyzed a No Action Alternative. DOE selected a dual-path strategy for disposition involving immobilization of surplus plutonium in glass or ceramic material for disposal in a geologic repository, and burning other surplus plutonium as MOX fuel in existing domestic commercial reactor(s) with subsequent disposal of the spent fuel in a geologic repository (ROD, 62 FR 3014, January 21, 1997). DOE also decided that an immobilization facility would be located at Hanford in Washington or at the SRS.

¹ Under that standard, the surplus weapons-usable plutonium should be made as inaccessible and unattractive for weapons use as the much larger and growing quantity of plutonium that exists in spent nuclear fuel from commercial power reactors.

In November 1999, DOE issued the Surplus Plutonium Disposition EIS. The SPD EIS tiered from the Storage and Disposition PEIS and included an analysis of alternative technologies and sites to implement the dual-path plutonium disposition strategy. In January 2000, DOE decided to construct and operate a MOX Fuel Fabrication Facility at the SRS to use up to 33 metric tons of surplus plutonium to fabricate MOX fuel and to construct and operate a new immobilization facility at the SRS (referred to as the Plutonium Immobilization Plant) using the ceramic can-in-canister technology allowing for the immobilization of approximately 17 metric tons of surplus plutonium (ROD, 65 FR 1608, January 11, 2000). Using this technology, DOE would immobilize plutonium in a ceramic form, seal it in cans, and place the cans in canisters filled with borosilicate glass containing intensely radioactive high-level waste at the existing DWPF. DOE stated that the can-in-canister approach would complement existing site missions, take advantage of existing infrastructure and staff expertise, and enable DOE to use an existing facility, DWPF.

In 2002, DOE cancelled the immobilization portion of the plutonium disposition strategy (ROD, 67 FR 19432, April 19, 2002). The selection of the SRS as the location for disposition facilities for up to 50 metric tons of surplus plutonium remains unchanged. In November 2005, DOE began site preparation at SRS for the MOX Fuel Fabrication Facility.

For purposes of this NEPA analysis, DOE will assume that the surplus plutonium to be disposed of will include some of the plutonium already stored at the SRS and some that DOE could move to the SRS from other sites (e.g., Hanford in Washington, Los Alamos National Laboratory in New Mexico, and Lawrence Livermore National Laboratory in California). DOE previously evaluated the transfer and storage of surplus plutonium from other sites in the Storage and Disposition PEIS and the SPD EIS. In addition, DOE will analyze the potential environmental impacts of these proposed shipments to, and subsequent storage in, the K-Area at the SRS in a supplement analysis (pursuant to 10 CFR 1021.314(c)). Upon completion of the supplement analysis, DOE will determine whether to issue an Amended ROD or conduct additional NEPA review, as appropriate. As explained in a prior ROD, “in addition to achieving the ultimate goal of permanent disposition of surplus plutonium materials, DOE independently needs to improve the configuration of the storage system for these materials, pending disposition” (67 FR 19433, April 19, 2002).

In addition to completing appropriate environmental reviews in compliance with NEPA, prior to shipping surplus weapons-usable plutonium to the SRS that would have been disposed of in the Plutonium Immobilization Plant, DOE must comply with Section 3155, Disposition of Defense Plutonium at the Savannah River Site, of Public Law 107-107, National Defense Authorization Act for Fiscal Year 2002. Section 3155(d) of this law requires that DOE prepare a plan that identifies a disposition path for such surplus plutonium.

Purpose and Need for Action

DOE's purpose and need for proposing this immobilization process has not changed since the SPD EIS was prepared. DOE needs to reduce the threat of nuclear weapons proliferation worldwide by disposing of surplus plutonium in the United States in a safe and environmentally sound manner. As stated in the ROD for the SPD EIS, DOE needs to ensure that plutonium produced for nuclear weapons and declared surplus to national security needs, now and in the future, is never again used for nuclear weapons. In addition, because of the cancellation of the immobilization portion of the disposition strategy in 2002, DOE is responsible for approximately 13 metric tons of declared surplus plutonium that does not have a defined disposition path. This situation needs to be addressed in light of DOE's ongoing responsibility to ensure the safe disposition of surplus plutonium.

Potential Range of Alternatives

In September 2005, DOE approved the Mission Need for a Plutonium Disposition Project at the SRS to address up to approximately 13 metric tons of surplus plutonium without an identified disposition path. The Mission Need is the first step in DOE's project management process, in accordance with DOE Order 413.3A, Program and Project Management for the Acquisition of Capital Assets.

DOE completed a technical review of alternative technologies in May 2006, which identified four potentially viable alternatives for completing the disposition of surplus plutonium. Three of these four alternatives will be evaluated in the SEIS.

• A glass can-in-canister approach installed in K-Area at the SRS. Plutonium would be vitrified within small cans, which would be placed in a rack inside a DWPF canister and surrounded with vitrified high-level waste. This alternative is similar to one evaluated in the SPD EIS, except that the capability would be installed in an existing rather than a new facility. Also, the currently proposed facility would be designed to immobilize approximately 13 metric tons of surplus plutonium rather than 17 metric tons as evaluated in the SPD EIS. (This is DOE's Preferred Alternative.)

• A ceramic can-in-canister approach installed in K-Area at the SRS. Plutonium would be incorporated in a ceramic material and placed in small cans, which would be placed in a rack inside a DWPF canister and surrounded with vitrified high-level waste. This alternative is similar to that initially selected by DOE following analysis in the SPD EIS. As with the glass can-in-canister approach, the two primary differences are that the SEIS will evaluate installing the capability in an existing rather than a new facility, and the SEIS will assume the disposition of approximately 13 metric tons of surplus plutonium, rather than 17 metric tons.

• Disposition using the MOX Fuel Fabrication Facility. This alternative would rely on facilities to be constructed at the SRS for disposition by using the surplus plutonium as feedstock in the fabrication of MOX fuel to be irradiated in commercial reactors. DOE anticipates that less than a third of the 13 metric tons of surplus plutonium that are the subject of this SEIS would meet the specifications for use as MOX Fuel Fabrication Facility feedstock.

Under each of the three alternatives, DOE would process some surplus plutonium for disposal using the H-Canyon. Plutonium materials would be dissolved, and the resulting plutonium-bearing solutions would be sent to the SRS liquid radioactive waste tanks then to DWPF for vitrification. DOE is evaluating the continued use of H-Canyon for uranium processing in a separate NEPA document—a supplement analysis scheduled for completion in 2007. Decisions regarding future operations of H-Canyon have a bearing on the availability of the facility to process surplus plutonium (i.e., processing for plutonium disposition would occur while H-Canyon is operating primarily for uranium processing).

The SEIS also will evaluate a No Action alternative of continued storage of the surplus plutonium.

DOE has determined that the fourth alternative identified in the May 2006 technical review is not reasonable, and thus, it will not be evaluated in detail in the SEIS. This alternative involved disposing of the entire 13 metric tons of surplus plutonium through H-Canyon and DWPF. Disposing of the entire 13 metric tons of surplus plutonium by using the H-Canyon facilities would result in extending operation of those facilities many years beyond the estimated 2019 date for completion of its currently approved mission of preparing spent nuclear fuel and highly-enriched uranium materials for disposition, and would also extend the planned operation of DWPF and the high-level waste system. Furthermore, implementation of this alternative would require security upgrades to make H-Canyon a Category I nuclear facility, which is inconsistent with the Department's plans to enhance security and reduce costs throughout the complex by reducing the number of such facilities. The additional cost of these security upgrades and extended operations are estimated to be several billion dollars.

Invitation to Comment

DOE invites Federal agencies, state and local governments, Native American tribes, industry, other organizations, and members of the public to provide comments on the proposed scope, alternatives, and environmental issues to be analyzed in the Supplemental EIS for Surplus Plutonium Disposition at the SRS. DOE will consider all such comments and other relevant information in defining the scope and analyses for the SEIS. Comments should be submitted as described under DATES and ADDRESSES above.

Potential Environmental Issues for Analysis

DOE has tentatively identified the following environmental issues for analysis in the Supplemental EIS for Surplus Plutonium Disposition at the SRS. The list is presented to facilitate comment on the scope of the SEIS and is not intended to be comprehensive nor to predetermine the alternatives to be analyzed or their potential impacts.

• Impacts to the general population and workers from radiological and nonradiological releases.

• Worker health and safety, including impacts from the use of chemicals.

• Long-term health and environmental impacts.

• Impacts of emissions on air and water quality.

• Impacts on ecological systems and threatened and endangered species.

• Impacts from waste management activities.

• Impacts from the transportation of radioactive materials and waste.

• Impacts of postulated accidents and from terrorist actions and sabotage.

• Potential disproportionately high and adverse effects on low-income and minority populations (environmental justice).

• Short-term and long-term land use impacts.

NEPA Process

Following the scoping period announced in this Notice of Intent, and after consideration of comments received during scoping, DOE will prepare a Draft SEIS for Surplus Plutonium Disposition at the SRS. DOE will announce the availability of the Draft SEIS in the Federal Register and local media outlets. DOE plans to issue the Draft SEIS by January 2008. Comments received on the Draft SEIS will be considered and addressed in the Final SEIS, which DOE anticipates issuing by July 2008. DOE will issue a ROD no sooner than 30 days after publication by the Environmental Protection Agency of a Notice of Availability of the Final SEIS.

Issued in Washington, DC, on March 21, 2007.
Eric J. Fygi,
Acting General Counsel.

[FR Doc. E7-5591 Filed 3-27-07; 8:45 am]

BILLING CODE 6450-01-P